DEPARTMENT OF HEALTH AND HUMAN SERVICES

Announcement of Availability of Funds for Family Planning Male Reproductive Health Research Grants

AGENCY: Department of Health and Human Services, Office of the Secretary, Office of Public Health and Science, Office of Population Affairs.

ACTION: Notice; correction.

SUMMARY: The Office of Population Affairs published a notice in the Federal Register of April 14, 2003 announcing the availability of funds for family planning male reproductive health research grants. It has been determined that further clarification of the range of grant awards is needed.

FOR FURTHER INFORMATION CONTACT: Susan B. Moskosky, 301-594-4008.

Correction

In the Federal Register of April 14, 2003, in FR Doc. 03-9050, on page 18043, in the third column, last paragraph correct the second sentence which reads “Awards will range from $100,000 to $250,000 per year” to read:

“Awards will range from $100,000 to $250,000 per year, inclusive of direct costs.”

Dated: May 19, 2003.
Alma L. Golden,
Deputy Assistant Secretary for Population Affairs.

[FR Doc. 03-12983 Filed 5-22-03; 8:45 am]

BILLING CODE 4150-34-P